ENVIRONMENTAL PROTECTION AGENCY

[FRL-9148-8]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2358.02; Nitrogen Oxides Ambient Air Monitoring (Final Rule); 40 CFR part 58; was approved on 04/05/2010; OMB Number 2060-0638; expires on 04/30/2013; Approved with change.

EPA ICR Number 2346.01; Questionnaire For Drinking Water Utilities Participating In Emerging Contaminant Sampling Program (New); was approved on 04/15/2010; OMB Number 2080-0078; expires on 04/30/2013; Approved with change.

EPA ICR Number 1665.09; Confidentiality Rules (Renewal); 40 CFR part 2, subparts A and B; was approved on 04/30/2010; OMB Number 2020-0003; expires on 12/31/2010; Approved without change.

EPA ICR Number 1066.06; NSPS for Ammonium Sulfate Manufacturing Plants; 40 CFR part 60, subpart A and 40 CFR part 60, subpart PP; was approved on 04/30/2010; OMB Number 2060-0032; expires on 04/30/2013; Approved without change.

Comment Filed

EPA ICR Number 2372.01; Mandatory Reporting of Greenhouse Gases (Proposed Rule for Injection and Geological Sequestration of Carbon Dioxide, Subpart RR); in 40 CFR part 98; 40 CFR part 98, subpart RR; OMB filed comment on 04/13/2010.

EPA ICR Number 2376.01; Regulation to Establish Mandatory Reporting of Greenhouse Gases (Subpart W, Petroleum and Natural Gas—Proposed Rule); in 40 CFR part 98, subpart W; OMB filed comment on 04/13/2010.

EPA ICR Number 2373.01; Mandatory Reporting of Greenhouse Gases (Proposed Rule for Fluorinated Greenhouse Gas Emissions, Subparts I, L, OO, and SS); in 40 CFR part 98, subparts I, LL, OOa and SS; OMB filed comment on 04/13/2010.

EPA ICR Number 2383.01; NESHAP for Gold Mine Ore Processing; in 40 CFR part 63, subpart EEEEEEE and 40 CFR part 63, subpart A; OMB filed comment on 04/29/2010.

Dated: May 3, 2010.
John Moses,
Director, Collections Strategies Division.

[FR Doc. 2010-10999 Filed 5-7-10; 8:45 am]

BILLING CODE 6560-50-P